COMMITTEE FOR PURCHASE FROM PEOPLE WHO ARE BLIND OR SEVERELY DISABLED

Procurement List Proposed Additions

AGENCY: Committee for Purchase From People Who Are Blind or Severely Disabled.

ACTION: Proposed Additions to the Procurement List.

SUMMARY: The Committee is proposing to add to the Procurement List products to be furnished by the nonprofit agency employing persons who are blind or have other severe disabilities.

Comments Must Be Received on or Before: April 19, 2010.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Patricia Briscoe, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed action.

Addition

If the Committee approves the proposed additions, the entities of the Federal Government identified in this notice will be required to procure the products listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agency listed:

Gloves, Mechanic's

NSN: 8415-01-501-1557—Extra-Extra-Large, Black—1 PR

NSN: 8415-01-497-5987—Extra-Large, Black—1 PR

NSN: 8415-01-497-5389—Large, Black—1 PR

NSN: 8415-01-497-5384—Medium, Black—1 PR

NSN: 8415-01-497-5381—Small, Black—1 PR

NPA: South Texas Lighthouse for the Blind, Corpus Christi, TX

Contracting Activity: Department of Veterans Affairs, NAC, Hines, IL

Coverage: C-List for the government requirements for the Department of Veterans Affairs, Hines, IL.

Patricia Briscoe,
Deputy Director, Business Operations.

[FR Doc. 2010-6022 Filed 3-18-10; 8:45 am]

BILLING CODE 6353-01-P